DEPARTMENT OF DEFENSE

Office of the Secretary

[Docket ID: DoD-2008-OS-0109]

Proposed Collection; Comment Request

AGENCY: Office of the Under Secretary of Defense (Personnel and Readiness) (Military Personnel Policy), DoD.

ACTION: Notice.

In compliance with Section 3506(c)(2)(A) of the Paperwork Reduction Act of 1995, the Office of the Under Secretary of Defense (Personnel and Readiness) (Military Personnel Policy) announces the following proposed extension of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by November 14, 2008.

ADDRESSES: You may submit comments, identified by docket number and title, by any of the following methods:

• Federal Rulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness) (Military Personnel Policy), ATTN: Major Eric A. Martinez, 4000 Defense Pentagon, Washington, DC 20301-4000 or call at (703) 695-5527.

Title, Associated Form, and OMB Control Number: Record of Military Processing—Armed Forces of the United States, DD Form 1966, OMB Number 0704-0173. This revision is to include USMEPCOM Form 680-3A-E, “Request for Examination” in the approval packet for DD Form 1966.

Needs and Uses: This information collection requirement is necessary to gather the required data for determining eligibility to join the Armed Forces and for establishing personal records on those enlisting. USMEPCOM Form 680-3A-E serves as a processing checklist and security verification of applicants for military service completing qualification requirements. Information collected on USMEPCOM Form 680-3A-E is transferred electronically into DD Form 1966 and helps decrease administration time required to complete the applicant's record.

Affected Public: The DD Form 1966 is completed by the applicant and recruiting personnel. The USMEPCOM Form 680-3A-E is completed by the applicant, recruiting and testing personnel.

Annual Burden Hours DD Form 1966: 85,170.

Number of Respondents: 510,000.

Responses per Respondent: 1.

Average Burden per Response: .167 hour (10 minutes).

Frequency: One time.

Annual Burden Hours for USMEPCOM Form 680-3A-E: 167,000.

Number of Respondents: 1,000,000.

Responses per Respondent: 1.

Average Burden per Response: .167 hour (10 minutes).

Frequency: On occasion.

SUPPLEMENTARY INFORMATION:

Summary of Information Collection

The DD Form 1966 is completed by the applicant and Service recruiter after an oral interview and after the applicant had met all standards for enlistment (aptitude, medical, and conduct standards) mandated by DoD and sponsoring Service and elects to enlist. The information is collected and processed within a one- to two-day period and accompanies the applicant throughout the enlistment process at Military Entrance Processing Stations (MEPS). USMEPCOM Form 680-3A-E is completed on all applicants at MEPS first contact for processing; testing, medical, and other requirements. The 680-3A-E covers the process required to meet enlistment qualification. The information collected on USMEPCOM Form 680-3A-E is transferred electronically into the DD Form 1966 after the applicant meets enlistment standards and decides to enlist.

Dated: September 5, 2008.
Patricia L. Toppings,
OSD Federal Register Liaison Officer, Department of Defense.

[FR Doc. E8-21420 Filed 9-12-08; 8:45 am]

BILLING CODE 5001-06-P